DEPARTMENT OF COMMERCE

National Oceanic and Atmospheric Administration

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Socioeconomics of Commercial Whale Watching Observation Operations in the Channel Islands National Marine Sanctuary.

OMB Control Number: 0648-xxxx.

Form Number(s): None.

Type of Request: Regular (request for a new information collection).

Number of Respondents: 21.

Average Hours per Response: One hour and 30 minutes to compile information; one hour for interview.

Burden Hours: 53.

Needs and Uses: This request is for a new information collection.

This is a survey of commercial whale watching operations that operate in and around the current Channel Islands National Marine Sanctuary (CINMS). Information will be obtained to assess the value of the whale watching industry to the local economy, as well as the potential socioeconomic costs or benefits from alternative management options proposed by the CINMS Marine Shipping Working Group to reduce negative encounters between vessels and whales.

Affected Public: Business and other for-profit organizations.

Frequency: One time.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: May 27, 2015.
Sarah Brabson,
NOAA PRA Clearance Officer.

[FR Doc. 2015-13095 Filed 5-29-15; 8:45 am]

BILLING CODE 3510-NK-P